ENVIRONMENTAL PROTECTION AGENCY

[FRL-6971-5]

Science Advisory Board; Notification of Public Advisory Committee Meeting

SUMMARY: Pursuant to the Federal Advisory Committee Act, Public Law 92-463, notice is hereby given that the Clean Air Scientific Advisory Committee (CASAC or the “Committee”), a chartered Federal advisory committee, will meet in a public teleconference on Monday, May 14, 2001 from 1 to 2 pm Eastern Time. The meeting will be hosted out of Conference Room 6428, US EPA, Ariel Rios Federal Building, 1200 Pennsylvania Avenue, NW., Washington, DC 20004. The meeting is open to the public, however, due to limited space, seating will be on a registration-only basis. Consequently, the public is encouraged to connect via phone to the teleconference. For further information concerning the meeting or how to obtain the phone number, please contact the individual listed below.

Background

The CASAC Technical Subcommittee for Fine Particle Monitoring (the “Subcommittee”) was established in 1996 to provide advice and comment to EPA (through CASAC) on appropriate methods and network strategies for monitoring fine particles in the context of implementing the revised national ambient air quality standards (NAAQS) for particulate matter. The Subcommittee last held a meeting/workshop on January 22, 2001 (see 66 FR 1343, January 8, 2001 for additional details). As a result of the meeting/workshop, the Subcommittee prepared a Commentary.

Purpose of the Meeting

At this meeting, the CASAC will review the Subcommittee Commentary (Exploring Opportunities for Accommodating Emerging Technologies for Continuous Monitoring in Routine Air Monitoring Networks—A Commentary stemming from a CASAC/Agency Workshop) that was prepared as a result of the January 22, 2001 Subcommittee meeting. CASAC will also discuss future activities planned for the remainder of this fiscal year.

Availability of Review Materials

The draft Subcommittee report is available on the SAB Website (www.epa.gov/sab) under the DRAFT REPORTS subheading.

FOR FURTHER INFORMATION CONTACT: Members of the public desiring additional information about the meeting, including registering for the limited number of seats in the meeting room, must contact Mr. Robert Flaak, Designated Federal Officer, Clean Air Scientific Advisory Committee, EPA Science Advisory Board (1400A), Suite 6450, U.S. EPA, 1200 Pennsylvania Avenue, NW., Washington, DC 20460; telephone/voice mail at (202) 564-4546; fax at (202) 501-0582; or via e-mail at flaak.robert@epa.gov. A copy of the draft agenda will be posted on the SAB Website (www.epa.gov/sab) (under the AGENDAS subheading) approximately 12 days before the meeting.

Members of the public who wish to make a brief oral presentation must contact Mr. Flaak in writing (by letter or by fax—see previously stated information) no later than 12 noon Eastern Time, Wednesday, May 9, 2001 in order to be included on the Agenda. Public comments will be limited to approximately three to five minutes per speaker or organization, with a total time of fifteen minutes overall for all speakers. Written comments must be received no later than the day prior to the meeting, preferably in electronic format.

Providing Oral or Written Comments at SAB Meetings

It is the policy of the Science Advisory Board to accept written public comments of any length, and to accommodate oral public comments whenever possible. The Science Advisory Board expects that public statements presented at its meetings will not be repetitive of previously submitted oral or written statements.

Oral Comments: In general, each individual or group requesting an oral presentation at a face-to-face meeting will be limited to a total time of ten minutes. For conference call meetings, opportunities for oral comment will usually be limited to no more than three minutes per speaker and no more than fifteen minutes total, unless otherwise stated. Deadlines for getting on the public speaker list for a meeting are given above. Speakers should bring at least 35 copies of their comments and presentation slides for distribution to the reviewers and public at the meeting.

Written Comments: Although the SAB accepts written comments until two days following the date of the meeting (unless otherwise stated above), written comments should be received in the SAB Staff Office at least one week prior to the meeting date so that the comments may be made available to the committee for their consideration. Comments should be supplied to the appropriate DFO at the address/contact information noted above in the following formats: one hard copy with original signature, and one electronic copy via e-mail (acceptable file formats: WordPerfect, Word, or Rich Text files (in IBM-PC/Windows 95/98 format). Those providing written comments and who attend the meeting are also asked to bring 25 copies of their comments for public distribution.

General Information

Additional information concerning the EPA Science Advisory Board, its structure, function, and composition, may be found on our Website (http://www.epa.gov/sab) and in The FY2000 Annual Report of the Staff Director which is available from the SAB Publications Staff at (202) 564-4533 or via fax at (202) 501-0256. Committee rosters, draft Agendas and meeting calendars are also located on our website.

Meeting Access

Individuals requiring special accommodation at this meeting, including wheelchair access to the conference room, should contact Mr. Flaak at least five business days prior to the meeting so that appropriate arrangements can be made.

Dated: April 19, 2001.
Donald G. Barnes,
Staff Director, Science Advisory Board.

[FR Doc. 01-10510 Filed 4-26-01; 8:45 am]

BILLING CODE 6560-50-P